DEPARTMENT OF HEALTH AND HUMAN SERVICES

Office of the Secretary

Findings of Misconduct in Science; Correction

AGENCY: Office of the Secretary, HHS

ACTION: Correction of notice.

SUMMARY: This document corrects errors that appeared in the notice published in the November 29, Federal Register entitled “Findings of Misconduct in Science.”

DATES: Effective Date: December 28, 2010.

Applicability Date: The correction notice is applicable for the Findings of Misconduct in Science notice published on November 29, 2010.

FOR FURTHER INFORMATION CONTACT: Karen Gorirossi or Sheila Fleming at 240-453-8800.

SUPPLEMENTARY INFORMATION:

I. Background

In FR Doc. 2010-29867 of November 29, 2010 (75 FR 73084-73085), there was an error, which included an incorrect date of implementation of administrative actions. The error is identified and corrected in the Correction of Errors section below.

II. Correction of Errors

In FR Doc. 2010-29867 of November 29, 2010 (75 FR 73084-73085), make the following corrections:

1. On page 73084, third column, fourth paragraph, change the paragraph to read as follows: “By letter dated October 4, 2010, the Department of Health and Human Services (HHS) notified Dr. Sezen of findings of misconduct in science made by ORI and the Department's intent to debar her for a period of five (5) years pursuant to the Public Health Service Policies on Research Misconduct, 42 CFR part 50, subpart A and part 93, and HHS' Implementation (2 CFR part 376) of the Office of Management and Budget (OMB) Guidelines to Agencies on Governmentwide Debarment and Suspension (2 CFR part 180). In accordance with part 93, subpart E, Dr. Sezen was afforded 30 days within which to request a hearing in this matter. As of November 4, 2010, the period of time to request a hearing expired. Thus, the following administrative actions have been implemented for a period of five (5) years, beginning on December 13, 2010.”

Dated: December 17, 2010.
John Dahlberg,
Director, Division of Research Investigations, Office of Research Integrity.

[FR Doc. 2010-32555 Filed 12-27-10; 8:45 am]

BILLING CODE 4150-31-P